DEPARTMENT OF HOUSING AND URBAN DEVELOPMENT

24 CFR Part 903

[Docket No. FR-4420-F-11]

RIN 2577-AB89

Rule To Deconcentrate Poverty and Promote Integration in Public Housing; Change in Applicability Date of Deconcentration Component of PHA Plan

AGENCY: Office of the Secretary, HUD.

ACTION: Final rule; amendment.

SUMMARY: This final rule amends HUD's December 22, 2000 final rule revising the deconcentration provisions of its Public Housing Agency (PHA) Plan regulations. Specifically, the final rule provides that the December 22, 2000 amendments concerning the deconcentration component of a PHA's admission policy are applicable to PHAs with fiscal years commencing on and after October 1, 2001.

DATES: Effective Date: March 7, 2001.

FOR FURTHER INFORMATION CONTACT: Rod Solomon, Deputy Assistant Secretary for Policy, Program and Legislative Initiatives, Department of Housing and Urban Development, Office of Public and Indian Housing, 451 Seventh Street, SW, Room 4116, Washington, DC 20410; telephone (202) 708-0713 (this is not a toll-free telephone number). Persons with hearing or speech disabilities may access this number via TTY by calling the free Federal Information Relay Service at 1-800-877-8339.

SUPPLEMENTARY INFORMATION:

I. Background

On December 22, 2000 (65 FR 81214), HUD published a final rule to amend the deconcentration provisions of its October 21, 1999 Public Housing Agency (PHA) Plan final rule. The December 22, 2000 final rule followed publication of an April 17, 2000 proposed rule.

The December 22, 2000 final rule provides that the first PHA fiscal year that is covered by the new requirements is the PHA fiscal year that begins July 2001 (see § 903.5). Upon further consideration, HUD believes that the July 1, 2001 date may not provide PHAs with sufficient time to bring their practices into compliance with the new deconcentration requirements. Accordingly, this final rule provides that the December 22, 2000 amendments concerning the deconcentration component of a PHA's admission policy are applicable to PHAs with fiscal years commencing on and after October 1, 2001.

II. Justification for Issuance of Rule for Effect

In general, HUD publishes a rule for public comment before issuing a rule for effect, in accordance with its own regulations on rulemaking at 24 CFR part 10. Part 10, however, does provide for exceptions from that general rule where HUD finds good cause to omit advance notice and public participation. The good cause requirement is satisfied when the prior public procedure is “impracticable, unnecessary, or contrary to the public interest” (24 CFR 10.1). HUD finds that good cause exists to publish this rule for effect without first soliciting public comment, in that prior public procedure is unnecessary. Public procedure is unnecessary because this rule makes a technical change to 24 CFR part 903 regarding the first PHA fiscal year covered by the deconcentration-related amendments of HUD's December 22, 2000 final rule to allow PHAs more time to comply with this requirement. The amendment will benefit PHAs, the residents they serve and the public by assuring that PHAs have sufficient time to become familiar with the requirements of the December 22, 2000 final rule and to bring their practices into compliance with the new deconcentration procedures.

III. Findings and Certifications

Regulatory Flexibility Act

The Secretary, in accordance with the Regulatory Flexibility Act (5 U.S.C. 605(b)), has reviewed and approved this rule, and in so doing certifies that this rule will not have a significant economic impact on a substantial number of small entities. This rule makes a technical amendment to 24 CFR part 903 regarding the first PHA fiscal year covered by the deconcentration-related amendments of HUD's December 22, 2000 final rule.

Environmental Impact

This rule is exempt from the environmental review procedures under HUD regulations in 24 CFR part 50 that implement section 102(2)(C) of the National Environmental Policy Act of 1969 (42 U.S.C. 4332) because of the exemption under § 50.19(c)(1). This rule only makes a technical amendment to an existing regulation.

Federalism Impact

The General Counsel, as the Designated Official under section 6(a) of Executive Order 13132, Federalism, has determined that this rule does not impose substantial direct compliance costs on States or local governments or preempt State law within the meaning of the Executive Order. As a result, the rule is not subject to review under the order.

Unfunded Mandates Reform Act

Title II of the Unfunded Mandates Reform Act of 1995 (2 U.S.C. 1531-1538) establishes requirements for Federal agencies to assess the effects of their regulatory actions on State, local, and tribal governments and the private sector. This proposed rule does not impose any Federal mandates on any State, local, or tribal governments or the private sector within the meaning of Unfunded Mandates Reform Act of 1995.

List of Subjects in 24 CFR Part 903

Administrative practice and procedure, Public housing, Reporting and recordkeeping requirements.

For the reasons discussed in the preamble, HUD amends 24 CFR part 903 as follows:

PART 903—PUBLIC HOUSING AGENCY PLANS

1. The authority citation for part 903 continues to read as follows:

Authority: 42 U.S.C. 1437c; 42 U.S.C. 3535(d).

2. Revise § 903.5(a)(1), (a)(4), and (b)(1) to read as follows:

§ 903.5 When must a PHA submit the plans to HUD?

(a) 5-Year Plan. (1) The first PHA fiscal year that is covered by the requirements of this part as amended on December 22, 2000, is the PHA fiscal year that begins October 2001. This 5-Year Plan submitted by a PHA must be submitted for the 5-year period beginning October 1, 2001.

* * * * *

(4) PHAs may choose to update their 5-Year Plans every year as good management practice and must update their 5-Year Plans that were submitted for PHA fiscal years beginning before October 1, 2001, to comply with the requirements of this part as amended on December 22, 2000, at the time they submit their next Annual Plan for fiscal years beginning on or after October 1, 2001. PHAs must explain any substantial deviation from their 5-Year Plans in their Annual Plans. (Substantial deviation is determined by the PHA in accordance with criteria provided by the PHA in its Annual Plan in accordance with § 903.7(r).)

* * * * *

(b) The Annual Plan. (1) The first PHA fiscal year that is covered by the requirements of this part as amended on December 22, 2000 is the PHA fiscal year that begins October 1, 2001.

* * * * *

Dated: January 29, 2001.
Mel Martinez,
Secretary.

[FR Doc. 01-2912 Filed 2-2-01; 8:45 am]

BILLING CODE 4210-32-P